FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 3, 2011.

A. Federal Reserve Bank of Richmond (Adam M. Drimer, Assistant Vice President) 701 East Byrd Street, Richmond, Virginia 23261-4528:

1. FIE I LLC, Newport Beach, California, a Delaware limited liability company; PIMCO BRAVO Fund, L.P., Newport Beach, California, a Delaware limited partnership; PIMCO GP IX, LLC, Newport Beach, California, a Delaware limited partnership; Pacific Investment Management Company LLC, Newport Beach, California, a Delaware limited liability company; PIMCO BRAVO Fund Special Offshore Feeder I, L.P., Newport Beach, California, a Cayman Islands exempted limited partnership; PIMCO BRAVO Fund Special Onshore Feeder I, L.P., Newport Beach, California, a Delaware limited partnership; PIMCO BRAVO Fund Offshore Feeder I, L.P., Newport Beach, California, a Cayman Islands exempted limited partnership; PIMCO BRAVO Fund Onshore Feeder I,L.P., Newport Beach, California, a Delaware limited partnership; PIMCO BRAVO Fund Special Onshore Feeder (TE) I, L.P., Newport Beach, California, a Delaware limited partnership; PIMCO BRAVO Holding Fund I, L.P., Newport Beach, California, a Cayman limited partnership; Allianz Global Investors of America L.P., Newport Beach, California, a Delaware limited partnership; Allianz Global Investors of America LLC, Newport Beach, California, a Delaware limited liability company; Allianz Global Investors U.S. Holding II LLC, Newport Beach, California, a Delaware limited liability company; PFP Holdings, Inc., Newport Beach, California, a Delaware corporation; Allianz Global Investors of America Holdings Inc., Munich, Germany, a Delaware corporation; Allianz Global Investors Aktiengesellschaft, Munich, Germany, a German corporation; Allianz of America, Inc., Novato, California, a Delaware corporation; Allianz Finanzbeteiligungs GMBH, Munich, Germany, a German limited liability company; and Allianz SE, Munich, Germany, a German corporation, to acquire voting shares of ECB Bancorp, Inc., and thereby indirectly acquire voting shares of The East Carolina Bank, both in Engelhard, North Carolina.

B. Federal Reserve Bank of Dallas (E. Ann Worthy, Vice President) 2200 North Pearl Street, Dallas, Texas 75201-2272:

1. Steven Gregory Kidd, Plano, Texas, individually and as trustee for The Greg Kidd 2010 Trust, The John Luster Kidd 2011 Family Trust, and as co-trustee for The Family Trust; John Luster Kidd, Tyler, Texas, individually and as trustee for The Greg and Shelly Kidd 2011 Trust, The Luster Kidd 2010 Trust, and as co-trustee for The Family Trust; and collectively Steven Gregory Kidd and John Luster Kidd as the Kidd Family Group; to acquire voting shares of Kidd Partners, Ltd., and thereby indirectly acquire voting shares of Chandler Bancorp, Inc., both in Tyler, Texas, Chandler Bancorp of Nevada Inc., Carson City, Nevada, and Citizens State Bank, Tyler, Texas.

Board of Governors of the Federal Reserve System, September 13, 2011.
Robert deV. Frierson,
Deputy Secretary of the Board.

[FR Doc. 2011-23853 Filed 9-16-11; 8:45 am]

BILLING CODE 6210-01-P